DEPARTMENT OF THE TREASURY

Internal Revenue Service

Proposed Information Collection; Comment Request

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments should be received on or before October 22, 2012 to be assured of consideration.

ADDRESSES: Direct all written comments to Yvette. B. Lawrence, Internal Revenue Service, Room 6129, 1111 Constitution Avenue NW., Washington, DC 20224.

Please send separate comments for each specific information collection listed below. You must reference the information collection's title, form number, reporting or record-keeping requirement number, and OMB number (if any) in your comment.

FOR FURTHER INFORMATION CONTACT: To obtain additional information, or copies of the information collection and instructions, or copies of any comments received, contact Joel Goldberger, 202-927-9368, or at Internal Revenue Service, room 6129, 1111 Constitution Avenue NW., Washington, DC 20224, or through the Internet, at Joel.P.Goldberger@irs.gov.

SUPPLEMENTARY INFORMATION:

Request for Comments

The Department of the Treasury and the Internal Revenue Service, as part of their continuing effort to reduce paperwork and respondent burden, invite the general public and other Federal agencies to take this opportunity to comment on the proposed or continuing information collections listed below in this notice, as required by the Paperwork Reduction Act of 1995, (44 U.S.C. 3501 et seq.).

Request for Comments

Comments submitted in response to this notice will be summarized and/or included in our request for Office of Management and Budget (OMB) approval of the relevant information collection. All comments will become a matter of public record. Please do not include any confidential or inappropriate material in your comments.

We Invite Comments On: (a) Whether the collection of information is necessary for the proper performance of the agency's functions, including whether the information has practical utility; (b) the accuracy of the agency's estimate of the burden of the collection of information; (c) ways to enhance the quality, utility, and clarity of the information to be collected; (d) ways to minimize the burden of the collection of information on respondents, including the use of automated collection techniques or other forms of information technology; and (e) estimates of capital or start-up costs and costs of operation, maintenance, and purchase of services to provide the requested information.

Information Collections Open for Comment

Currently, the IRS is seeking comments concerning the following forms, and reporting and record-keeping requirements:

Title: Public Disclosure of Material Relating to Tax-Exempt Organizations.

OMB Number: 1545-1560.

Regulation Project Numbers: REG-246250-96 (T.D. 8816).

Abstract: Under section 6104(e) of the Internal Revenue Code, certain tax-exempt organizations are required to make their annual information returns and applications to tax exemption available for public inspection. In addition, certain tax-exempt organizations are required to comply with requests made in writing or in person from individuals who seek a copy of those documents or, in the alternative, to make their documents widely available. This regulation provides guidance concerning these disclosure requirements.

Current Actions: There is no change to this existing Regulation.

Type of Review: Extension of a currently approved collection.

Affected Public: Not-for-profit institutions.

Estimated Number of Respondents: 1,100,000.

Estimated Time Per Respondent: 30 minutes.

Estimated Total Annual Burden Hours: 551,000.

Title: Deferred Compensation Plans of State and Local Governments and Tax-Exempt Organizations.

OMB Number: 1545-1695.

Revenue Ruling Number: Revenue Ruling 2000-33.

Abstract: Revenue Ruling 2000-33 specifies the conditions the plan sponsor should meet to automatically defer a certain percentage of its employees' compensation into their accounts in an eligible deferred compensation plan.

Current Actions: There are no changes being made to this revenue ruling at this time.

Type of Review: Extension of a currently approved collection.

Affected Public: Not-for-profit institutions, and state, local or tribal governments.

Estimated Number of Respondents: 500.

Estimated Time Per Respondent: 1 Hour.

Estimated Total Annual Burden Hours: 500.

Title: Application of Separate Limitations to Dividends From Non-controlled Section 902 Corporations.

OMB Number: 1545-2014.

Form Number: TD 9452.

Abstract: The AJCA amended the foreign tax credit treatment of dividends from non-controlled section 902 corporations effective for post-2002 tax years, and the GOZA permitted taxpayers to elect to defer the effective date of these amendments until post-2004 tax years. These regulations require a taxpayer making the GOZA election to file a statement to such effect with its next tax return, and they require certain shareholders wishing to make tax elections on behalf of their controlled foreign corporations or non-controlled section 902 corporations to execute a joint consent (that is retained by one shareholder) and attach a statement to their tax returns. The respondents are primarily domestic corporations owning stock in foreign corporations.

Current Actions: There is no change in the paperwork burden previously approved by OMB.

Type of Review: Extension of a currently approved collection.

Affected Public: Individuals and Households, Businesses and other for-profit organizations.

Estimated Number of Respondents: 50.

Estimated Time per Respondent: 30 minutes.

Estimated Total Annual Burden Hours: 25.

Title: Return of Certain Excise Taxes Under Chapter 43 of the Internal Revenue Code.

OMB Number: 1545-2148.

Form Number: Form 8928.

Abstract: Form 8928 is used by employers, group health plans, HMOs, and third party administrators to report and pay excise taxes due for failures under sections 4980B, 4980D, 4980E, and 4980G.

Current Actions: There is no change in the paperwork burden previously approved by OMB. This form is being submitted for renewal purposes.

Type of Review: This is an extension of a previously approved collection.

Affected Public: Businesses and other for-profit organizations, and Not-for-profit institutions.

Estimated Number of Respondents: 100.

Estimated Total Annual Burden Hours: 2,348.

The following paragraph applies to all of the collections of information covered by this notice:

An agency may not conduct or sponsor, and a person is not required to respond to a collection of information, unless the collection of information displays a valid OMB control number.

Title: Return of Certain Excise Taxes Under Chapters 41 and 42 of the Internal Revenue Code.

OMB Number: 1545-0052.

Form Numbers: Forms 4720 and Form 990-PF.

Abstract: IRC section 6033 requires all private foundations, including section 4947(a)(1) trusts treated as private foundations, to file an annual information return. Section 53.4940-1(a) of the Income Tax Regulations requires that the tax on net investment income be reported on the return filed under section 6033. Form 990-PF is used for this purpose. Section 6011 requires a report of taxes under Chapter 42 of the Code for prohibited acts by private foundation and certain related parties. Form 4720 is used by foundations and/or related persons to report prohibited activities in detail and pay the tax on them.

Current Actions: Due to the addition of Schedule M to form 4920, there is an increase in the paperwork burden previously approved by OMB.

Type of Review: This is a revision of a currently approved collection.

Affected Public: Not-for-profit institutions.

Estimated Number of Respondents: 55,000.

Estimated Total Annual Burden Hours: 11,054,637.

Title: Form 1120-IC-DISC, Interest Charge Domestic International Sales Corporation Return, Schedule K (Form 1120-IC-DISC), Shareholder's Statement of IC-DISC Distributions, and Schedule P (Form 1120-IC-DISC), Intercompany Transfer Price or Commission.

OMB Number: 1545-0938.

Form Numbers: 1120-IC-DISC, Schedules K and P.

Abstract: U.S. corporations that elected to be an interest charge domestic international sales corporation (IC-DISC) file Form 1120-IC-DISC to report income and deductions. The IC-DISC is not taxed; IC-DISC shareholders are taxed on their share of IC-DISC income. IRS uses Form 1120-IC-DISC to check the IC-DISC's computation of income. Schedule K (Form 1120-IC-DISC) is used to report income to shareholders. Schedule P (Form 1120-IC-DISC) is used by the IC-DISC to report dealings with suppliers.

Current Actions: There are no changes being made to the forms.

Type of Review: Extension of an approved collection.

Affected Public: Business or other for-profit organizations and individuals or households.

Estimated Number of Respondents: 1,200.

Estimated Total Annual Burden Hours: 242,340.

Approved: August 14, 2012.
Yvette B. Lawrence,
IRS Reports Clearance Officer.

[FR Doc. 2012-20689 Filed 8-21-12; 8:45 am]

BILLING CODE 4830-01-P